DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before March 16, 2022.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on February 04, 2022.
Donald P. Burger,
Chief, General Approvals and Permits Branch.

Special Permits Data
Application No. | Applicant | Regulation(s) affected | Nature of the special permits thereof
21323-N | Canadian Pacific Railway Company | 172.203(a), 173.24, 173.26 | To authorize the use of electronic shipping paper information and train consist information when hazardous materials are transported by rail. (mode 2).
21324-N | Absolute Accuracy, LLC | 173.304(d), 173.306(a)(3) | To authorize the manufacture, mark, sale and use of a non-refillable, non-DOT specification inside metal container similar to a DOT specification 2Q. (modes 1, 2, 3, 4).
21325-N | Western International Gas & Cylinders, Inc | 171.12(a)(4) | To authorize the requalification of acetylene cylinders authorized by Transport Canada but are not authorized for transport of hazardous materials in the United States. (mode 1).
21326-N | Channel Medsystems, Inc | 173.304(f)(3) | To authorize the transportation in commerce of nitrous oxide, via air, within an outer packaging that has not passed the Thermal Resistance Test. (mode 4).
21328-N | Dragonfly Energy Corp | 173.6(a)(1)(ii), 173.6(d) | To authorize the transportation in commerce of lithium batteries exceeding 66 pounds as materials of trade. (mode 1).
21330-N | Polysource, Inc | 176.907(a), 176.907(b), 176.907(c)(1) | To authorize the transportation in commerce of polymeric beads in alternative packaging. (mode 3).
21331-N | Jaco, Inc | 172.200, 172.700(a) | To authorize the transportation in commerce of lithium ion batteries and lithium ion batteries contained in equipment, shipped by customers back to the manufacturer, without requiring shipping papers, emergency response information or hazmat training. (modes 1, 2, 3).
21332-N | Advanced Material Systems Corporation | 173.302(f)(1) | To authorize the transportation in commerce of ISO 11119-2 cylinders containing oxygen via cargo-only aircraft. (mode 4).
21333-N | Cummins Inc | 172.101(j), 173.185(b)(1) | To authorize the transportation in commerce of lithium ion batteries exceeding 35 kg by cargo-only aircraft. (mode 4).
21334-N | PacTec, Inc | 173.12(b)(2)(i) | To authorize the manufacture, mark, sale, and use of certain UN13H4 woven plastic, coated, and with liner Flexible Intermediate Bulk Containers (IBC) for use as the outer packaging in a combination packaging for liquids or solids lab packs in accordance with 49 CFR 173.12(b)(2)(i). (modes 1, 2, 3).
21335-N | The Island Packers Corporation |  | To authorize the transportation in commerce of certain hazardous materials aboard passenger vessels.
21336-N | Kronebusch Industries LLC | 178.33a-1 | To authorize the manufacture, mark, sale, and use of receptacles meeting all the requirements for the DOT 2Q specification, except that the capacity and diameter exceed that which is authorized for the specification. (modes 1, 2, 3, 4, 5).

[FR Doc. 2022-03085 Filed 2-11-22; 8:45 am]

BILLING CODE 4910-60-P